DEPARTMENT OF TRANSPORTATION

Federal Motor Carrier Safety Administration

[Docket No. FMCSA-2003-16241]

Qualification of Drivers; Exemption Applications; Vision

AGENCY: Federal Motor Carrier Safety Administration (FMCSA), DOT.

ACTION: Notice of applications for exemption from the vision standard; request for comments.

SUMMARY: This notice publishes the FMCSA's receipt of applications from 24 individuals for an exemption from the vision requirement in the Federal Motor Carrier Safety Regulations. If granted, the exemptions will enable these individuals to qualify as drivers of commercial motor vehicles (CMVs) in interstate commerce without meeting the vision standard prescribed in 49 CFR 391.41(b)(10).

DATES: Comments must be received on or before December 1, 2003.

ADDRESSES: You may submit comments identified by any of the following methods. Please identify your comments by the DOT DMS Docket Number FMCSA-2003-16241.

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 am and 5 pm, Monday through Friday, except Federal Holidays.

• Federal eRulemaking Portal: Go to http://www.regulations.gov. Follow the on-line instructions for submitting comments.

Instructions: All submissions must include the agency name and docket number for this notice. For detailed instructions on submitting comments and additional information on the rulemaking process, see the Public Participation heading of the Supplementary Information section of this document. Note that all comments received will be posted without change to http://dms.dot.gov, including any personal information provided. Please see the Privacy Act heading under Regulatory Notices.

Docket: For access to the docket to read background documents or comments received, go to http://dms.dot.gov at any time or to Room PL-401 on the plaza level of the Nassif Building, 400 Seventh Street, SW., Washington, DC, between 9 am and 5 pm, Monday through Friday, except Federal Holidays.

FOR FURTHER INFORMATION CONTACT: Ms. Sandra Zywokarte, Office of Bus and Truck Standards and Operations, (202) 366-2987, FMCSA, Department of Transportation, 400 Seventh Street, SW., Washington, DC 20590-0001. Office hours are from 7:45 a.m. to 4:15 p.m., e.t., Monday through Friday, except Federal holidays.

SUPPLEMENTARY INFORMATION:

Public Participation: The DMS is available 24 hours each day, 365 days each year. You can get electronic submission and retrieval help guidelines under the “help” section of the DMS Web site. If you want us to notify you that we received your comments, please include a self-addressed, stamped envelope or postcard or print the acknowledgement page that appears after submitting comments on-line.

Privacy Act: Anyone is able to search the electronic form of all comments received into any of our dockets by the name of the individual submitting the comment (or signing the comment, if submitted on behalf of an association, business, labor union, etc.). You may review the Department of Transportation's complete Privacy Act Statement in the Federal Register published on April 11, 2000 (Volume 65, Number 70; Pages 19477-78) or you may visit http://dms.dot.gov.

Background

Under 49 U.S.C. 31315 and 31136(e), the FMCSA may grant an exemption for a 2-year period if it finds “such exemption would likely achieve a level of safety that is equivalent to, or greater than, the level that would be achieved absent such exemption.” The statute also allows the agency to renew exemptions at the end of the 2-year period. The 24 individuals listed in this notice have recently requested an exemption from the vision requirement in 49 CFR 391.41(b)(10), which applies to drivers of CMVs in interstate commerce. Accordingly, the agency will evaluate the qualifications of each applicant to determine whether granting the exemption will achieve the required level of safety.

Qualifications of Applicants

1. Ronald G. Austin

Mr. Austin, 55, has amblyopia in his right eye. His visual acuity in the right eye is 20/100 and in the left, 20/20. His ophthalmologist examined him in 2003 and certified, “In my medical opinion, Mr. Ronald Austin has sufficient vision to perform the driving tasks required to operate a commercial vehicle.” Mr. Austin reported that he has driven straight trucks and tractor-trailer combinations for 17 years, accumulating 340,000 miles in the former and 85,000 miles in the latter. He holds a Class AM CDL from Alabama. His driving record for the last 3 years shows no accidents or convictions for moving violations in a CMV.

2. William E. Barrett

Mr. Barrett, 70, has had macular degeneration in his left eye for 5 years. His best-corrected visual acuity in the right eye is 20/25 and in the left, counting fingers. Following an examination in 2003, his ophthalmologist stated, “Mr. Barrett has had a long-standing decrease in vision in the left eye. His right visual acuity as well as peripheral visual fields remain excellent. I feel that he can continue to perform his driving duties as in the past.” Mr. Barrett reported that he has driven straight trucks and tractor-trailer combinations for 49 years, accumulating 735,000 miles in the former and 245,000 miles in the latter. He holds a Class A CDL from Connecticut. His driving record for the last 3 years shows no accidents or convictions for moving violations in a CMV.

3. Eric D. Bennett

Mr. Bennett, 40, has a chorioretinal scar in his left eye due to trauma in 1997. His best-corrected visual acuity in the right eye is 20/20 and in the left, 20/80. His ophthalmologist examined him in 2003 and stated, “In my medical opinion, Mr. Bennett has sufficient vision to perform the driving tasks required to operate a commercial vehicle.” Mr. Bennett submitted that he has driven straight trucks for 4 years, accumulating 200,000 miles, and tractor-trailer combinations for 10 years, accumulating 900,000 miles. He holds a Class A CDL from New Hampshire. His driving record for the last 3 years shows no accidents or convictions for moving violations in a CMV.

4. Zack Bradford, Sr.

Mr. Bradford, 48, is blind in his right eye due to trauma in 1993. His visual acuity in the left eye is 20/20. His optometrist examined him in 2002 and stated, “Mr. Bradford has sufficient vision to drive a commercial vehicle.” Mr. Bradford reported that he has driven straight trucks for 17 years, accumulating 238,000 miles. He holds a Class C driver's license from Georgia. His driving record for the last 3 years shows no accidents or convictions for moving violations in a CMV.

5. Rickey C. Dalton

Mr. Dalton, 51, lost his left eye due to an accident that occurred in 1986. His best-corrected visual acuity in the right eye is 20/20. Following an examination in 2003, his optometrist certified, “His right eye is sufficient to operate and perform driving tasks in a commercial vehicle.” Mr. Dalton reported that he has driven tractor-trailer combinations for 14 years, accumulating 1.8 million miles. He holds a Class A CDL from Utah. His driving record for the last 3 years shows no accidents or convictions for moving violations in a CMV.

6. Dustin G. Davis

Mr. Davis, 26, has a macular scar in his right eye due to trauma in 1995. His visual acuity in the right eye is 20/200 and in the left, 20/15. Following an examination in 2003, his ophthalmologist certified, “In my opinion, despite Mr. Davis' visual acuity in the right eye which is secondary to a macular scar and is a stable condition which should not progress over time, I feel that he has sufficient vision to perform the driving tasks required to operate a commercial vehicle.” Mr. Davis reported that he has driven straight trucks for 6 years, accumulating 180,000 miles, and tractor-trailer combinations for 4 years, accumulating 200,000 miles. He holds a Class A CDL from Wyoming. His driving record for the last 3 years shows no accidents and one conviction for a moving violation—speeding—in a CMV. He exceeded the speed limit by 12 mph.

7. John K. DeGolier

Mr. DeGolier, 44, has amblyopia in his right eye. His best-corrected visual acuity in the right eye is 20/200 and in the left, 20/20. Following an examination in 2003, his ophthalmologist certified, “Because of his previous track record of having no problems with driving commercially and because of his full visual fields and good clarity of vision to his left eye, I think it would be reasonable for Mr. DeGolier to operate a commercial vehicle safely.” Mr. DeGolier reported that he has driven straight trucks for 15 years, accumulating 150,000 miles, and tractor-trailer combinations for 5 years, accumulating 75,000 miles. He holds a Class A CDL from North Carolina. His driving record for the last 3 years shows no accidents or convictions for moving violations in a CMV.

8. Martiano L. Espinosa

Mr. Espinosa, 46, has amblyopia in his right eye. His best-corrected visual acuity in the right eye is 20/200 and in the left, 20/20. Following an examination in 2003, his optometrist certified, “I feel that Mr. Espinosa has sufficient vision to perform his commercial driving tasks because he has good peripheral vision and good overall acuity in both eyes.” Mr. Espinosa reported that he has driven straight trucks for 10 years, accumulating 336,000 miles. He holds a Class A CDL from Florida. His driving record for the last 3 years shows no accidents or convictions for moving violations in a CMV.

9. Roy M. Field

Mr. Field, 62, has amblyopia in his left eye. His best-corrected visual acuity in the right eye is 20/15 and in the left, 20/70. Following an examination in 2003, his ophthalmologist certified, “Mr. Field can safely operate a commercial vehicle with his glasses correction.” Mr. Field reported that he has driven straight trucks for 3 years, accumulating 139,000 miles, and tractor-trailer combinations for 34 years, accumulating 1.4 million miles. He holds a Class DM driver's license from Alabama. His driving record for the last 3 years shows one accident and no convictions for moving violations in a CMV. According to the police report, Mr. Field was attempting to make a right turn when another driver passing on the right in a storage lane struck his vehicle. The other driver was cited for “unsafe passing on right.” Mr. Field was not cited.

10. Derek T. Ford

Mr. Ford, 45, has amblyopia in his left eye. His best-corrected visual acuity in the right eye is 20/25 and in the left, 20/400. Following an examination in 2003, his ophthalmologist certified, “By my medical testing and in my medical opinion, he has sufficient vision to perform the driving tasks required to operate a commercial vehicle.” Mr. Ford reported that he has driven straight trucks for 26 years, accumulating 1.5 million miles, and tractor-trailer combinations for 1 year, accumulating 45,000 miles. He holds a Class B CDL from Maryland. His driving record for the last 3 years shows no accidents or convictions for moving violations in a CMV.

11. James G. LaBair

Mr. LaBair, 56, has counting fingers vision in his right eye due to an injury in November 1981. His best-corrected visual acuity in the left eye is 20/25. Following an examination in 2003, his optometrist certified, “At this time with Mr. LaBair's current visual status, I feel that his vision is sufficient to perform the driving tasks required to operate a commercial vehicle.” Mr. LaBair reported that he has driven straight trucks for 1 year, accumulating 35,000 miles, and tractor-trailer combinations for 19 years, accumulating 1.9 million miles. He holds a Class A CDL from Michigan. His driving record for the last 3 years shows no accidents or convictions for moving violations in a CMV.

12. Dennis A. Leschke

Mr. Leschke, 58, had a traumatic cataract removed from his left eye in 1956. His best-corrected visual acuity in the right eye is 20/20 and in the left, 20/50. Following an examination in 2003, his optometrist certified, “In my medical opinion, this patient has sufficient vision to operate a commercial vehicle.” Mr. Leschke reported that he has driven straight trucks for 40 years, accumulating 600,000 miles. He holds a Class D driver's license from Oklahoma. His driving record for the last 3 years shows no accidents or convictions for moving violations in a CMV.

13. Lonnie Lomax, Jr.

Mr. Lomax, 31, has had a retinal scar in his right eye for 7 years. His best-corrected visual acuity in the right eye is 20/200 and in the left, 20/20. His optometrist examined him in 2003 and certified, “In my opinion, Mr. Lomax has sufficient vision to operate a commercial vehicle.” Mr. Lomax submitted that he has driven tractor-trailer combinations for 6 years, accumulating 48,000 miles. He holds a Class A CDL from Illinois. His driving record shows no accidents or convictions for moving violations in a CMV during the last 3 years.

14. Ernesto R. Martinez

Mr. Martinez, 41, has a corneal scar secondary to an injury in the right eye at age 1. His visual acuity in the right eye is 20/80 and in the left, 20/20. Following an examination in 2003, his optometrist certified, “In my medical opinion Mr. Martinez has sufficient vision to perform the driving tasks required to operate a commercial vehicle.” Mr. Martinez reported that he has driven straight trucks for 4 years, accumulating 275,000 miles, and tractor-trailer combinations for 2 years, accumulating 49,000 miles. He holds a Class A CDL from Texas. His driving record for the last 3 years shows no accidents or convictions for moving violations in a CMV.

15. Bennet G. Maruska

Mr. Maruska, 50, lost the vision in his right eye due to an injury at age 15. His best-corrected visual acuity in the left eye is 20/20. His optometrist examined him in 2003 and certified, “I believe that in review of revisions required to operate a commercial vehicle, Bennet's vision qualifies for sufficient vision to perform the driving tasks required for commercial driving.” Mr. Maruska reported that he has driven tractor-trailer combinations for 16 years, accumulating 360,000 miles. He holds a Class A CDL from Minnesota. His driving record for the last 3 years shows no accidents or convictions for moving violations in a CMV.

16. James T. McGinnis

Mr. McGinnis, 40, has amblyopia in his left eye. His visual acuity in the right eye is 20/20 and in the left, 20/100. Following an examination in 2003, his optometrist stated, “In my opinion, Mr. McGinnis has sufficient vision to perform the driving tasks to operate a commercial vehicle.” Mr. McGinnis submitted that he has driven straight trucks for 20 years, accumulating 150,000 miles, and tractor-trailer combinations for 13 years, accumulating 1.2 million miles. He holds a Class A CDL from Texas. His driving record shows one accident and no convictions for moving violations in a CMV during the last 3 years. According to the accident report, Mr. McGinnis was attempting to make a right turn when another driver also attempted to turn right by driving on the shoulder. The report indicated that the other driver contributed to the collision by “turning improperly—wrong lane.” Mr. McGinnis was not cited.

17. Gary L. Miller

Mr. Miller, 61, has amblyopia in his left eye. His best-corrected visual acuity in the right eye is 20/30 and in the left, 20/60. Following an examination in 2003 his optometrist stated. “Mr. Miller's driving experience and life-long visual adaptation make him quite capable of driving commercial vehicles safely.” Mr. Miller submitted that he has driven straight trucks for 30 years, accumulating 750,000 miles, and tractor-trailer combinations for 12 years, accumulating 840,000 miles. He holds a Class A CDL from Kansas. His driving record for the last 3 years shows no accidents and one conviction for a moving violation—“failure to yield right of way to an emergency vehicle”—in a CMV.

18. Jack D. Miller

Mr. Miller, 46, has had a retinal and iridic coloboma in his left eye since birth. His best-corrected visual acuity in the right eye is 20/20 and in the left, 20/200. His optometrist examined him in 2003 and certified, “With an excellent driving history, stable visual condition and 20/20 potential, I do believe Jack Miller would be safe to drive a commercial vehicle.” Mr. Miller reported that he has driven straight trucks for 10 years, accumulating 100,000 miles, and tractor-trailer combinations for 18 years, accumulating 1.6 million miles. He holds a Class A CDL from Ohio. His driving record for the last 3 years shows no accidents and one conviction for a moving violation—speeding—in a CMV. He exceeded the speed limit by 19 mph.

19. Ezequiel M. Ramirez

Mr. Ramirez, 45, lost his right eye due to trauma 20 years ago. His visual acuity in the left eye is 20/20. Following an examination in 2003, his optometrist certified, “In my medical opinion, Ezequiel, has sufficient vision in his left eye to perform the driving tasks required to operate a commercial vehicle, and has reported performing these driving tasks for the past five to ten years.” Mr. Ramirez reported that he has driven tractor-trailer combinations for 5 years, accumulating 816,000 miles. He holds a Class A CDL from Texas. His driving record for the last 3 years shows no accidents and one conviction for a moving violation—speeding—in a CMV. He exceeded the speed limit by 10 mph.

20. Carl W. Skinner, Jr.

Mr. Skinner, 47, has had a macular scar in his left eye since 1997 due to toxoplasmosis. His best-corrected visual acuity in the right eye is 20/20 and in the left, 20/400. Following an examination in 2003, his optometrist stated, “Carl Skinner, in my opinion, has sufficient vision to perform the driving tasks required to operate a commercial vehicle.” Mr. Skinner submitted that he has driven straight trucks for 15 years, accumulating 375,000 miles, and tractor-trailer combinations for 2 years, accumulating 30,000 miles. He holds a Class A CDL from Ohio. His driving record shows no accidents or convictions for moving violations in a CMV during the last 3 years.

21. Doyce J. Soriez

Mr. Soriez, 70, experienced a retinal artery occlusion in his left eye in 1999. His best-corrected visual acuity is 20/20 in the right eye and 20/50 in the left. Following an examination in 2003, his ophthalmologist stated, “In my opinion, Mr. Soriez has sufficient vision to perform the driving tasks required to operate a commercial vehicle.” Mr. Soriez reported that he has driven straight trucks for 1 year, accumulating 20,000 miles, tractor-trailer combinations for 1 year, accumulating 800 miles, and buses for 13 years, accumulating 988,000 miles. He holds a Class D chauffeur's license from Louisiana. His driving record for the last 3 years shows no accidents or convictions for moving violations in a CMV.

22. Peter D. Wehner

Mr. Wehner, 27, has amblyopia in his left eye. His best-corrected visual acuity in the right eye is 20/15 and in the left, 20/50. Following an examination in 2003, his optometrist certified, “I see no indication from a visual standpoint that he would be unable to properly handle the visual tasks required in operating a commercial motor vehicle.” Mr. Wehner reported that he has driven straight trucks for 4 years, accumulating 160,000 miles. He holds a Class B CDL from Minnesota. His driving record for the last 3 years shows no accidents or convictions for moving violations in a CMV.

23. Howard W. Williams

Mr. Williams, 54, has retinal scarring in his right eye due to trauma at age 2. His best-corrected visual acuity is 20/200 in the right eye and 20/20 in the left. His optometrist examined him in 2003 and certified, “In my opinion, Mr. Williams has sufficient vision to drive a commercial vehicle.” Mr. Williams reported that he has driven buses for 21 years, accumulating 874,000 miles. He holds a Class D chauffeur's license from Louisiana. His driving record for the last 3 years shows no accidents or convictions for moving violations in a CMV.

24. Jack E. Wilson

Mr. Wilson, 55, has amblyopia in his left eye. His best-corrected visual acuity in the right eye is 20/20 and in the left, 20/200. Following an examination in 2003, his ophthalmologist certified, “It is my medical opinion that he currently has adequate vision to perform the visual tasks required pertaining to the operation of a commercial vehicle.” Mr. Wilson reported that he has driven straight trucks for 24 years, accumulating 2.8 million miles. He holds a Class A CDL from Georgia. His driving record for the last 3 years shows no accidents or convictions for moving violations in a CMV.

Request for Comments

In accordance with 49 U.S.C. 31315 and 31136(e), the FMCSA requests public comment from all interested persons on the exemption petitions described in this notice. We will consider all comments received before the close of business on the closing date indicated earlier in the notice.

Issued on: October 24, 2003.
Pamela M. Pelcovits,
Office Director, Policy, Plans, and Regulations.

[FR Doc. 03-27384 Filed 10-29-03; 8:45 am]

BILLING CODE 4910-EX-P